NATIONAL FOUNDATION ON THE ARTS AND THE HUMANITIES

National Endowment for the Arts Combined Arts Advisory Panel

Pursuant to Section 10(a)(2) of the Federal Advisory Committee Act (Public Law 92-463), as amended, notice is hereby given that four meetings of the Combined Arts Advisory Panel to the National Council on the Arts will be held at the Nancy Hanks Center, 1100 Pennsylvania Avenue, NW., Washington, DC 20506 as follows:

Museums section (Creativity & Organizational Capacity categories)—July 24-27, 2000, Room 716. A portion of this meeting, from 1:00 p.m. to 2:30 p.m. on July 27th, will be open to the public for policy discussion. The remaining portions of this meeting, from 9:00 a.m. to 7:00 p.m. on July 24th, from 9:00 a.m. to 6:30 p.m. on July 25th and 26th, and from 9:00 a.m. to 1:00 p.m. and 3:30 p.m. to 5:00 p.m. on July 27th, will be closed.

Dance section (Creativity & Organizational Capacity categories)—August 14-18, 2000, in Room 716. A portion of this meeting, from 1:00 p.m. to 2:00 p.m. on August 17th, will be open to the public for policy discussion. The remaining portions of this meeting, from 9:00 a.m. to 6:00 p.m. on August 14th-16th, from 9:00 a.m. to 1:00 p.m. and 2:00 p.m. to 6:00 p.m. on August 17th, and from 9:00 a.m. to 2:30 p.m. on August 18th, will be closed.

The closed portions of these meetings are for the purpose of Panel review, discussion, evaluation, and recommendation on applications for financial assistance under the National Foundation on the Arts and the Humanities Act of 1965, as amended, including information given in confidence to the agency by grant applicants. In accordance with the determination of the Chairman of May 12, 2000, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW, Washington, DC 20506, 202/682-5532, TDY-TDD 202/682-5486, at least seven (7) days prior to the meeting.

Further information with reference to this meeting can be obtained from Ms. Kathy Plowitz-Worden, Office of Guidelines & Panel Operations, National Endowment for the Arts, Washington, DC 20506, or call 202/682-5691.

Dated: June 21, 2000.
Kathy Plowitz-Worden,
Panel Coordinator, Panel Operations, National Endowment for the Arts.

[FR Doc. 00-16198 Filed 6-26-00; 8:45 am]

BILLING CODE 7537-01-M